ENVIRONMENTAL PROTECTION AGENCY

40 CFR Part 60

[EPA-HQ-OAR-2018-0851; FRL-9992-21-OAR]

RIN 2060-AU27

Standards of Performance for Stationary Compression Ignition Internal Combustion Engines

AGENCY: Environmental Protection Agency (EPA).

ACTION: Direct final rule.

SUMMARY: The U.S. Environmental Protection Agency (EPA) is taking direct final action to promulgate amendments to the Standards of Performance for Stationary Compression Ignition Internal Combustion Engines. This direct final action revises the emission standards for particulate matter (PM) for new stationary compression ignition (CI) engines located in remote areas of Alaska.

DATES: The direct final rule is effective on October 3, 2019, without further notice, unless the EPA receives significant adverse written comment by August 5, 2019 on the amendments, or if a public hearing is requested by July 10, 2019. If significant adverse comments are received on any or all of the amendments, the EPA will publish a timely withdrawal in the Federal Register clarifying which provisions will become effective and which provisions are being withdrawn due to adverse comment.

ADDRESSES: You may send comments, identified by Docket ID No. EPA-HQ-OAR-2018-0851, by any of the following methods:

• Federal eRulemaking Portal: https://www.regulations.gov/ (our preferred method). Follow the online instructions for submitting comments.

• Email: a-and-r-docket@epa.gov. Include Docket ID No. EPA-HQ-OAR-2018-0851 in the subject line of the message.

• Fax: (202) 566-9744. Attention Docket ID No. EPA-HQ-OAR-2018-0851.

• Mail: U.S. Environmental Protection Agency, EPA Docket Center, Docket ID No. EPA-HQ-OAR-2018-0851, Mail Code 28221T, 1200 Pennsylvania Avenue NW, Washington, DC 20460.

• Hand/Courier Delivery: EPA Docket Center, WJC West Building, Room 3334, 1301 Constitution Avenue NW, Washington, DC 20004. The Docket Center's hours of operation are 8:30 a.m.-4:30 p.m., Monday-Friday (except Federal holidays).

Instructions: All submissions received must include the Docket ID No. for this rulemaking. Comments received may be posted without change to https://www.regulations.gov/, including any personal information provided. For detailed instructions on sending comments and additional information on the rulemaking process, see the SUPPLEMENTARY INFORMATION section of this document.

FOR FURTHER INFORMATION CONTACT: For questions about this action, contact Melanie King, Sector Policies and Programs Division (D243-01), Office of Air Quality Planning and Standards, U.S. Environmental Protection Agency, Research Triangle Park, North Carolina 27711; telephone number: (919) 541-2469; fax number: (919) 541-4991; and email address: king.melanie@epa.gov.

SUPPLEMENTARY INFORMATION: Docket. The EPA has established a docket for this rulemaking under Docket ID No. EPA-HQ-OAR-2018-0851. All documents in the docket are listed in Regulations.gov. Although listed, some information is not publicly available, e.g., Confidential Business Information (CBI) or other information whose disclosure is restricted by statute. Certain other material, such as copyrighted material, is not placed on the internet and will be publicly available only in hard copy. Publicly available docket materials are available either electronically in Regulations.gov or in hard copy at the EPA Docket Center, Room 3334, WJC West Building, 1301 Constitution Avenue NW, Washington, DC. The Public Reading Room is open from 8:30 a.m. to 4:30 p.m., Monday through Friday, excluding legal holidays. The telephone number for the Public Reading Room is (202) 566-1744, and the telephone number for the EPA Docket Center is (202) 566-1742.

Instructions. Direct your comments to Docket ID No. EPA-HQ-OAR-2018-0851. The EPA's policy is that all comments received will be included in the public docket without change and may be made available online at https://www.regulations.gov/, including any personal information provided, unless the comment includes information claimed to be CBI or other information whose disclosure is restricted by statute. Do not submit information that you consider to be CBI or otherwise protected through https://www.regulations.gov/ or email. This type of information should be submitted by mail as discussed below.

The EPA may publish any comment received to its public docket. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and be free of any defects or viruses. For additional information about the EPA's public docket, visit the EPA Docket Center homepage at https://www.epa.gov/dockets.

Submitting CBI. Do not submit information containing CBI to the EPA through https://www.regulations.gov/ or email. Clearly mark the part or all of the information that you claim to be CBI. For CBI information on any digital storage media that you mail to the EPA, mark the outside of the digital storage media as CBI and then identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI. Information not marked as CBI will be included in the public docket and the EPA's electronic public docket without prior notice. Information marked as CBI will not be disclosed except in accordance with procedures set forth in 40 Code of Federal Regulations (CFR) part 2. Send or deliver information identified as CBI only to the following address: OAQPS Document Control Officer (C404-02), OAQPS, U.S. Environmental Protection Agency, Research Triangle Park, North Carolina 27711, Attention Docket ID No. EPA-HQ-OAR-2018-0851.

Organization of this document. The information in this preamble is organized as follows:

I. General Information

II. Background and Final Rule

III. Impacts of the Final Rule

IV. Statutory and Executive Order Reviews

A. Executive Order 12866: Regulatory Planning and Review and Executive Order 13563: Improving Regulation and Regulatory Review

B. Executive Order 13771: Reducing Regulation and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Executive Order 12898: Federal Actions To Address Environmental Justice in Minority Populations and Low-Income Populations

L. Congressional Review Act (CRA)

I. General Information

The EPA is publishing this direct final rule without a prior proposed rule because we view this as a noncontroversial action and do not anticipate significant adverse comment. However, in the “Proposed Rules” section of this Federal Register, we are publishing a separate document that will serve as the proposed rule to amend the Standards of Performance for Stationary Compression Ignition Internal Combustion Engines, if the EPA receives significant adverse comments on this direct final rule. EPA does not intend to institute a second comment period on this action. Any parties interested in commenting must do so at this time. For further information about commenting on this rule, see the ADDRESSES section of this document. If the EPA receives significant adverse comment on all or a distinct portion of this direct final rule, we will publish a timely withdrawal in the Federal Register informing the public that some or all of this direct final rule will not take effect. We would address all public comments in any subsequent final rule based on the proposed rule.

II. Background and Final Rule

On July 11, 2006, the EPA promulgated Standards of Performance for Stationary Compression Ignition Internal Combustion Engines (71 FR 39154). These standards, known as new source performance standards (NSPS), implement section 111(b) of the Clean Air Act. The standards apply to new stationary sources of emissions, i.e., sources whose construction, reconstruction, or modification begins after a standard for those sources is proposed. The NSPS for Stationary CI Internal Combustion Engines established limits on emissions of PM, nitrogen oxides (NOX), carbon monoxide (CO) and non-methane hydrocarbons (NMHC). The emission standards are generally modeled after the EPA's standards for nonroad and marine diesel engines. The emission standards are phased in over several years and have Tiers with increasing levels of stringency, with Tier 4 as the most stringent level. The engine model year in which the Tiers take effect varies for different size ranges of engines. The Tier 4 final standards for new stationary non-emergency and nonroad CI engines generally began with either the 2014 or 2015 model year. The standards are codified at 40 CFR part 60, subpart IIII.

In 2011, the EPA finalized revisions to the NSPS for Stationary CI Engines (the “2011 Amendments”) that amended the standards for engines located in remote areas of Alaska (76 FR 37954). The 2011 Amendments allowed owners and operators of stationary CI engines located in remote areas of Alaska to use engines certified to marine engine standards, rather than land-based nonroad engine standards. The 2011 Amendments also removed the requirements to meet Tier 4 emission standards for NOX, CO, and NMHC that would necessitate the use of selective catalytic reduction (SCR) aftertreatment devices in light of issues associated with supply, storage, and use of the necessary chemical reductant (usually urea) in remote Alaska.¹ As discussed in the 2011 rulemaking, the remote communities in Alaska rely almost exclusively on diesel engines for electricity and heat and these engines need to be in working condition, particularly in the winter. These communities are scattered over long distances in remote areas and are not connected to population centers by road and/or power grid. Most of these communities are located in the most severe arctic environments in the United States. The costs for acquisition, operation, and maintenance of SCR aftertreatment controls are greater than for engines located elsewhere in the United States due to the remote location and severe arctic climate of the villages. The aftertreatment controls had not been tested in remote arctic climates, and engine owners and operates were concerned that there could be operational problems with the SCR aftertreatment systems in the remote arctic climates that could prevent stationary CI engines from functioning properly, especially since the majority of small power plants in remote areas are unstaffed. Given these concerns and the higher costs for SCR aftertreatment systems in the remote areas, the EPA determined in the 2011 Amendments that it would not be appropriate to require new stationary CI engines in remote areas of Alaska to meet emission standards for NOX, CO, and NMHC that are based on the use of SCR aftertreatment devices.

¹ Remote areas of Alaska are defined in the Stationary CI Engine NSPS as those that either are not accessible by the Federal Aid Highway System (FAHS), or meet all of the following criteria: (1) The only connection to the FAHS is through the Alaska Marine Highway System, or the stationary CI engine operation is within an isolated grid in Alaska that is not connected to the statewide electrical grid referred to as the Alaska Railbelt Grid; (2) at least 10 percent of the power generated by the stationary CI engine on an annual basis is used for residential purposes; and (3) the generating capacity of the source is less than 12 megawatts, or the stationary CI engine is used exclusively for backup power for renewable energy.

For PM, the 2011 Amendments specified that stationary CI engines located in remote areas of Alaska would not have to meet emission standards that would necessitate the use of aftertreatment devices until the 2014 model year. The aftertreatment technology that was expected to be used to meet the PM standards is a diesel particulate filter (DPF). The EPA expected that providing additional time to gain experience with use of DPFs would alleviate some of the concerns associated with feasibility and costs of installing and operating DPFs in remote villages. In a letter to the EPA Administrator dated December 20, 2017, Governor Bill Walker of Alaska requested that the EPA rescind the PM emission standards based on aftertreatment for 2014 model year and later stationary CI engines in remote areas of Alaska. The letter stated that it is difficult to operate and maintain PM aftertreatment controls on stationary CI engines in remote areas of Alaska because of cost, complexity, and unreliability. According to the letter, utilities in remote areas have been installing used, remanufactured, and rebuilt pre-2014 model year engines in the remote areas to avoid the requirement to use PM aftertreatment, instead of installing new engines that meet the Tier 3 marine engine standards. The EPA's expectation that experience with use of DPFs would alleviate feasibility and cost concerns was not realized and the requirement that 2014 model year and later engines use DPFs had in fact resulted in use of older engines. The letter indicated that new engines certified to the Tier 3 marine engine standards are notably cleaner than the non-certified engines currently in use in remote areas of Alaska, due to advances in diesel engine electronic fuel injection and electronic governors.

After receiving the letter from Governor Walker, the EPA contacted the Alaska Department of Environmental Conservation and the Alaska Energy Authority (AEA) to obtain more information about the issues described in the letter. In particular, the EPA asked for information regarding the state's concerns about the cost, complexity, and reliability of DPFs, as expressed in Governor Walker's letter. The EPA also asked for information on the number of stationary CI engines that are installed in remote areas of Alaska each year and whether any stationary CI engines with DPFs were currently operating in the remote areas. The AEA indicated that owners and operators of engines in rural communities have been delaying replacement of older engines because of the cost and concerns about having to install new engines with DPFs. As stated in Governor Walker's letter, the communities are using rebuilt older engines rather than installing new marine Tier 3 engines that would be lower-emitting and more efficient.

As noted previously, the communities in remote areas of Alaska are not accessible by the Federal Aid Highway System and/or not connected to the statewide electrical grid referred to as the Alaska Railbelt Grid. They are isolated and most are located in the most severe arctic environments in the United States. It is critical for the engines in the communities to remain in working order since the engines are used for electricity and heating. Information provided by the AEA and engine dealers indicates that costs for engine and control device maintenance and repair are much higher than for engines located elsewhere in the United States due to the remote location and severe arctic climate. Technicians must travel to the remote areas for service and repairs, and travel costs for technicians and shipping costs for parts are much higher than in other areas. Information provided by the AEA indicated that travel costs can include chartering aircraft and can be approximately $3,000-$4,000 per trip, in addition to daily labor costs.² The travel time can range from 25 to 99 percent of the total labor invested in a job.³ In addition to increased maintenance costs, a control device vendor indicated that costs for DPF installation on an engine in remote areas of Alaska can be more than double the costs for an engine in Texas.⁴ The remote communities also have a shortage of operators who are trained for the DPF equipment. Typically, the filter element must be periodically removed and the accumulated ash must be cleaned from the filter and captured. The AEA indicates that few communities have the technical capacity to perform the necessary cleaning procedures for DPFs. Another concern related to the remote location is the difficulty and expense associated with proper disposal of the ash collected by the DPF and used filters in hazardous waste disposal facilities. The ash can contain metallic oxides which are hazardous to the environment or to public health.⁵

² Letter from Ben Hopkins, General Manager Kaktovik Enterprises LLC to Janet Reiser, Executive Director, Alaska Energy Authority, June 11, 2018. Available in the rulemaking docket.

³ Letter from Bill Mossey, President, Pacific Power Group to Janet Reiser, Executive Director, AEA. August 10, 2018. Available in the rulemaking docket.

⁴ Email from Marc Rost, Johnson Matthey to Melanie King, U.S. EPA. Estimated DPF Capital and Operating Costs. November 19, 2018.

⁵ Technical Bulletin on Diesel Particulate Filter Ash Disposal. EPA National Clean Diesel Campaign. EPA-420-F-09-010. February 2009.

According to the AEA, experience with the use of DPFs in remote areas of Alaska is very limited. The AEA was aware of only one remote community that has installed DPFs on two engines in a power plant. The DPFs were installed in April 2018, so there has not been experience with the long-term operation of the engines and DPFs. The AEA noted that rather than having the emission controls integrated with the certified engine, as is typical for Tier 4 engines, the remote communities will have to purchase Tier 3 marine certified engines and equip the engines with DPFs that may come from third parties and are not integrated into the engine's computer system, which may increase the likelihood of problems occuring that could cause the engine to shut down. As stated previously, the engines are generally used for heating in the villages, so unexpected engine shutdowns could cause life safety issues. Providers of engines and emission controls in Alaska noted that they have experienced operational issues with nonroad and stationary Tier 4 engines with DPFs in other areas of Alaska, even when the controls were integrated with the engine by the original equipment manufacturer. For example, one provider noted that he serviced two Tier 4 engines that required numerous service calls and the addition of a parasitic load bank to maintain exhaust temperatures high enough for DPF regeneration, which increased fuel consumption and operating costs.⁶ Another provider stated that they sold a number of nonroad Tier 4 engines equipped with DPFs that met extensive factory tests for reliability and durability, but experienced numerous problems with regeneration of the DPF once they were in-use by operators.⁷

⁶ Summary of April 17, 2018, meeting between the EPA and the AEA to discuss Governor Walker's request for regulatory relief. Available in the rulemaking docket.

⁷ Letter from Bill Mossey, President, Pacific Power Group to Janet Reiser, Executive Director, AEA. August 10, 2018. Available in the rulemaking docket.

After considering all of the information provided, including the information provided on the lack of experience with the use of DPFs on engines in remote areas of Alaska, the potential for operational issues, and the higher costs, the EPA has determined that such use of DPFs is not adequately demonstrated and is revising the provision in 40 CFR 60.4216 for 2014 model year and later stationary CI engines in remote areas of Alaska. The EPA is amending the provision to specify that 2014 model year and later stationary CI engines in remote areas of Alaska must be certified to Tier 3 p.m. standards. The EPA has determined that the Tier 3 standards reflect the best system of emission reduction that has been adequately demonstrated. The Tier 3 standards will limit emissions of PM to levels significantly below those of the older uncertified engines currently in use in many of the remote communities.

III. Impacts of the Final Rule

A detailed discussion of the impacts of these amendments can be found in the Impacts of the Amendments to the NSPS for Stationary Compression Ignition Internal Combustion Engines memorandum, which is available in the docket for this action. In the original 2006 rulemaking, the EPA assumed that even in the absence of the NSPS, emissions from stationary engines would be reduced to the same emission levels as nonroad engines through Tier 3, since engine manufacturers frequently use the same engine in both nonroad and stationary applications. Emission reductions and costs were only estimated for the difference between compliance with the Tier 3 standard and compliance with the Tier 4 standard in the original rulemaking.⁸ Using a similar assumption, the foregone PM reductions and costs from these amendments are calculated based on the difference in emissions between the engines that are expected to be used once these amendments are finalized, which are Tier 3 marine engines, and the engines currently required by the regulations (known as the baseline), which are Tier 3 engines (either nonroad or marine) with a DPF. If the baseline is assumed to be a Tier 3 nonroad engine with a DPF, then the foregone PM reductions based on the difference between a Tier 3 marine engine and a Tier 3 nonroad engine with a DPF are 5.3 tons per year in the first year after the amendments. In the fifth year after the amendments, the foregone PM reductions would be 27 tons of PM per year, assuming the number of new engines installed each year remains constant. If the baseline is assumed to be Tier 3 marine with DPF, the difference between the Tier 3 marine emissions and the Tier 3 marine with DPF emissions is 6.6 tons of PM per year in the first year and 33 tons of PM in the fifth year. The cost savings in the fifth year after the amendments are estimated to be approximately $8.0 million (2017 dollars). We also show the cost savings using a present value (PV) in adherence to Executive Order 13771. The PV of the cost savings is estimated in 2016 dollars as $322.9 million at a discount rate of 3 percent and $111.2 million at a discount rate of 7 percent. Finally, the annualized cost savings over time can be shown as an equivalent annualized value (EAV), a value calculated consistent with the PV. The EAV of the cost savings is estimated in 2016 dollars as $9.7 million at a discount rate of 3 percent and $7.8 million at a discount rate of 7 percent. All of these PV and EAV estimates are discounted to 2016 and assume an indefinite time period after promulgation for their calculation.

⁸ Emission Reduction Associated with NSPS for Stationary CI ICE. Memorandum from Tanya Parise, Alpha-Gamma Technologies, Inc. to Jaime Pagán, EPA Energy Strategies Group. May 19, 2006. Document EPA-HQ-OAR-2005-0029-0288.

Note that the AEA has indicated that owners and operators of engines in remote communities have been delaying replacement of older engines because of the cost and concerns about having to install new engines with DPFs. Thus, the costs and additional PM emission reductions from engines installed in 2014 and later have not been occurring as expected when the rule was originally issued in 2006. According to the AEA, if these amendments are not finalized, the remote communities will likely continue delaying replacement of older engines, and will not receive the benefits of the reduced PM emissions that will occur if the older engines are replaced by new Tier 3 engines. Replacing an older engine with an engine meeting the Tier 3 marine emission standard results in a significant reduction in PM emissions compared to the Tier 0 engine emissions. For example, for a 238 horsepower engine, PM emissions from a Tier 3 marine engine are reduced by 80 percent from a Tier 0 nonroad engine.

IV. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Executive Order 13771: Reducing Regulation and Controlling Regulatory Costs

This action is considered an Executive Order 13771 deregulatory action. Details on the estimated cost savings of this final rule can be found in the EPA's analysis of the potential costs and benefits associated with this action.

C. Paperwork Reduction Act (PRA)

This action does not impose any new information collection burden under the PRA. OMB has previously approved the information collection activities contained in the existing regulations and has assigned OMB control number 2060-0590.

D. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden, or otherwise has a positive economic effect on the small entities subject to the rule. This action reduces the impact of the rule on owners and operators of stationary CI engines located in remote areas of Alaska. We have, therefore, concluded that this action will relieve regulatory burden for all directly regulated small entities.

E. Unfunded Mandates Reform Act (UMRA)

This action does not contain an unfunded mandate of $100 million or more as described in UMRA, 2 U.S.C. 1531-1538, and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. While some Native Alaskan tribes and villages could be impacted by this amendment, this rule would reduce the compliance costs for owners and operators of stationary CI engines in remote areas of Alaska. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions Concerning Regulations That Significantly Affect Energy Supply, Distribution, or Use

This action is not subject to Executive Order 13211, because it is not a significant regulatory action under Executive Order 12866.

J. National Technology Transfer and Advancement Act (NTTAA)

This rulemaking does not involve technical standards.

K. Executive Order 12898: Federal Actions To Address Environmental Justice in Minority Populations and Low-Income Populations

While some Native Alaskan tribes and villages could be impacted by this amendment, the EPA believes that this action does not have disproportionately high and adverse human health or environmental effects on minority populations, low-income populations and/or indigenous peoples, as specified in Executive Order 12898 (59 FR 7629, February 16, 1994). The amendments will not have a significant effect on emissions and will likely remove barriers to the installation of new, lower emission engines in remote communities.

L. Congressional Review Act (CRA)

This action is subject to the CRA, and the EPA will submit a rule report to each House of the Congress and to the Comptroller General of the United States. This action is not a “major rule” as defined by 5 U.S.C. 804(2).

List of Subjects in 40 CFR Part 60

Environmental protection, Administrative practice and procedure, Air pollution control, Reporting and recordkeeping requirements.

Dated: June 27, 2019.
Andrew R. Wheeler,
Administrator.

For the reasons set forth in the preamble, 40 CFR part 60 is amended as follows:

PART 60—STANDARDS OF PERFORMANCE FOR NEW STATIONARY SOURCES

1. The authority citation for part 60 continues to read as follows:

Authority: 42 U.S.C. 7401 et seq.

Subpart IIII—Standards of Performance for Stationary Compression Ignition Internal Combustion Engines

2. Section 60.4216 is amended by revising paragraph (c) to read as follows:

§ 60.4216 What requirements must I meet for engines used in Alaska?

* * * * *

(c) Manufacturers, owners, and operators of stationary CI ICE that are located in remote areas of Alaska may choose to meet the applicable emission standards for emergency engines in §§ 60.4202 and 60.4205, and not those for non-emergency engines in §§ 60.4201 and 60.4204, except that for 2014 model year and later non-emergency CI ICE, the owner or operator of any such engine must have that engine certified as meeting at least Tier 3 p.m. standards.

* * * * *

[FR Doc. 2019-14372 Filed 7-3-19; 8:45 am]

BILLING CODE 6560-50-P